DEPARTMENT OF TRANSPORTATION

Federal Aviation Administration

Notice of Intent of Waiver With Respect to Land; Indianapolis International Airport, Indianapolis, Indiana

AGENCY: Federal Aviation Administration (FAA), DOT.

ACTION: Notice.

SUMMARY: The FAA is considering a proposal to change 69.784 acres of airport land from aeronautical use to non-aeronautical use and to authorize the sale of airport property located at Indianapolis International Airport, Indianapolis, Indiana. The aforementioned land is not needed for aeronautical use.

The land consists of 6 original airport acquired parcels. The parcels were acquired under grants 3-18-0038-017 and local funding.

There are no impacts to the airport by allowing the Indianapolis Airport Authority to dispose of the property. The land is not needed for future aeronautical development.

DATES: Comments must be received on or before September 13, 2019.

ADDRESSES: Documents are available for review by appointment at the FAA Chicago Airports District Office, Melanie Myers, Program Manager, 2300 East Devon Avenue, Des Plaines, Illinois 60018. Telephone: (847) 294-7525/Fax: (847) 294-7046 and Eric Anderson, Director of Properties, Indianapolis Airport Authority, 7800 Col. H. Weir Cook Memorial Drive, Indianapolis, IN 46241. Telephone: 317-487-5135.

Written comments on the Sponsor's request must be delivered or mailed to: Melanie Myers, Program Manager, Federal Aviation Administration, Chicago Airports District Office, 2300 East Devon Avenue, Des Plaines, Illinois 60018. Telephone: (847) 294-7525/Fax: (847) 294-7046.

FOR FURTHER INFORMATION CONTACT: Melanie Myers, Program Manager, Federal Aviation Administration, Chicago Airports District Office, 2300 East Devon Avenue, Des Plaines, Illinois 60018. Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The disposition of proceeds from the sale of the airport property will be in accordance with FAA's Policy and Procedures Concerning the Use of Airport Revenue, published in the Federal Register on February 16, 1999 (64 FR 7696).

This notice announces that the FAA is considering the release of the subject airport property at the Indianapolis International Airport, Indianapolis, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

Part of the West Half of the Southeast Quarter of Section 32, Township 15 North, Range 2 East, Hendricks County, Indiana, more particularly described as follows:

Commencing at the Northwest corner of said Southeast Quarter Section; thence North 89 degrees 13 minutes 54 seconds East along the North line thereof 212.67 feet to the northeast corner of a land parcel deeded to the State of Indiana for Ronald Reagan Parkway right of way, recorded as Instrument Number 201705758 in the Office of the Hendricks County Recorder, being the Point of Beginning; thence continuing North 89 degrees 13 minutes 54 seconds East along said North line 1,117.32 feet to the Northeast corner of the West Half of said Half Quarter Section; thence South 00 degrees 13 minutes 31 seconds East along the East line of said Half Section 1,326.57 feet to the Southeast corner of the Northwest Quarter of the Southeast Quarter of said Section; thence South 74 degrees 57 minutes 24 seconds West 318.38 feet; thence South 13 degrees 10 minutes 24 seconds West 355.81 feet; thence South 00 degrees 21 minutes 40 seconds East 901.46 feet to the South line of said Quarter section; thence South 89 degrees 25 minutes 13 seconds West along said South line 465.32 feet to the east line of the aforementioned right of way of Ronald Reagan Parkway per Instrument number 201705758, the remaining (8) courses being along the east lines of said right of way;

(1) Thence North 44 degrees 40 minutes 57 seconds West 112.26 feet;

(2) Thence North 26 degrees 22 minutes 15 seconds West 275.75 feet:

(3) Thence North 15 degrees 51 minutes 10 seconds West 275.75 feet:

(4) Thence North 00 degrees 50 minutes 28 seconds West 475.42 feet:

(5) Thence North 03 degrees 48 minutes 39 seconds West 500.89 feet:

(6) Thence North 00 degrees 22 minutes 38 seconds West 1,000.00 feet:

(7) Thence North 42 degrees 19 minutes 52 seconds East 73.75 feet;

(8) Thence North 00 degrees 46 minutes 06 seconds West 25.00 feet to the Point of Beginning.

Containing 57.255 acres, more or less.

Right-of-Way

A part of the Southeast Quarter of Section 32, Township 15 North, Range 3 East, Hendricks County, Indiana, and being that part of the grantor's land lying within the right-of-way depicted on the attached Right-of-Way Parcel Plat, marked EXHIBIT “B” described as follows: Beginning at the northwest corner of said quarter section designated as point ”S” on said plat; thence North 89 degrees 39 minutes 05 seconds East 64.821 meters (212.67 feet) along the north line of said quarter section to point “766” on said plat; thence South 0 degrees 20 minutes 55 seconds East 7.620 meters (25.00 feet) to the south boundary of Stafford Road to point “759” on said plat; thence South 42 degrees 45 minutes 03 seconds West 22.480 meters (73.75 feet) to point “751” on said plat; thence South 0 degrees 02 minutes 33 seconds West 304.00 meters (1,000 feet) to point “752” on said plat; thence South 0 degrees 25 minutes 17 seconds East 144.907 meters (475.42 feet) to point “754” on said plat; thence South 15 degrees 25 minutes 59 seconds East 84.048 meters (275.75 feet) to point “755” on said plat; thence South 25 degrees 57 minutes 04 seconds East 84.048 meters (275.75 feet) to point “756” on said plat; thence South 44 degrees 15 minutes 46 seconds East 35.232 meters (115.59 feet) to the south line of said quarter section to point “760” on said plat; thence North 89 degrees 52 minutes 22 seconds West 106.941 meters (350.86 feet) along said south line to point “732” on said plat; thence North 21 degrees 29 minutes 47 seconds West 11.044 meters (36.23 feet) to the west of said quarter section to point “743” on said plat; thence North 0 degrees 09 minutes 39 seconds East 728.743 meters (2,384.33 feet) along said west line to the point of beginning.

Issued in Des Plaines, Illinois, on July 31, 2019.
Jose DeLeon,
Acting Manager, Chicago Airports District Office, FAA, Great Lakes Region.

[FR Doc. 2019-17372 Filed 8-13-19; 8:45 am]

BILLING CODE 4910-13-P